DEPARTMENT OF TRANSPORTATION

Federal Highway Administration

Environmental Impact Statement: La Plata County, CO

AGENCY: Federal Highway Administration (FHWA), DOT.

ACTION: Notice of intent.

SUMMARY: The FHWA is issuing this Notice of Intent to advise the public that an Environmental Impact Statement (EIS) will be prepared for a proposed transportation project to improve the safety, capacity, and efficiency of US Highway 160 from Durango to Bayfield in La Plata County, Colorado.

FOR FURTHER INFORMATION CONTACT: Joseph P. Duran, FHWA Colorado Division, 555 Zang Street, Suite 250, Lakewood, Colorado 80228. Telephone (303) 969-6730 Extension 385, or the Colorado Department of Transportation, Kerrie E. Neet, Right of Way/Environmental/Planning Manager, CDOT Region 5, 3803 North Main Ave, Suite 300, Durango, Colorado 81301, 970-385-1430 or (e-mail: kerrie.neet@dot.state.co.us).

SUPPLEMENTARY INFORMATION: The FHWA, cooperation with the Colorado Department of Transportation Region 5, will prepare an Environmental Impact Statement (EIS) on a proposal to improve the safety, capacity, and efficiency of US 160 from the US 160/US 550-east intersection, easterly through Bayfield in La Plata County. The proposal is to widen what is primarily a two-lane roadway into a four-lane highway, with shifts and realignments in some locations. The project will also correct substandard roadway design, intersection deficiencies and consider the need to relocate the existing US 160/US 550-east intersection.

US 160 is a principal arterial on the National Highway System, providing the only major east-west corridor for the transport of people, goods, and services across southwestern Colorado. This highway serves as the major route for local and regional traffic into Durango and Bayfield. The existing US 160 highway improvements were constructed in the 1950s and 1960s, and the typical design life for a highway is 20 years. Based on projected traffic volumes, the function of this highway will continue to deteriorate, causing increased safety hazards and maintenance costs. Some sections of this highway currently exhibit an above average traffic accident rate.

The scoping process to develop alternatives along the US 160 corridor began in September 1996 and a Final US 550 and US 160 Feasibility Study was completed and signed by the FHWA in February 1999. The Feasibility Study identified the improvements needed to achieve the goals of increasing the highway's efficiency, capacity, and improving safety with concern for important public values. Public and agency input on alternatives was sought through a series of public meetings.

A draft Environmental Assessment (EA) was prepared to determine the potential for significant impacts due to the proposed highway widening and shifts in alignment. As a result of this analysis and issues raised during the public process, the FHWA has determined that preparation of an EIS is appropriate. Identified impacts warranting this determination include wetlands, threatened/endangered species, environmental justice, wildlife, and private property owner concerns.

Changes in the anticipated land use and jurisdiction are in progress for the western portion of the project corridor known as “Grandview.” this area is being studied for urban services and is likely to be annexed to the City of Durango. This warrants the consideration of a new “urban” type of four-lane improvement. Consideration of all reasonable alternatives will be performed to determine how to best meet the project purpose and need. Alternative alignments developed in the EA process will be reevaluated for potential inclusion in the EIS. As required by NEPA, the EIS will also evaluate a “No Action” alternative as a baseline for comparing impacts of all the alternatives. Multimodal facilities, including park-n-ride lots and shared use (bicycle/pedestrian) paths, will be considered as part of the alternatives analysis.

A public scoping meeting will be held during February or March 2003 to present alternatives. Notices of this public meeting will be mailed to citizens, property owners, agencies, and posted in local news media. Draft and Final Environmental Impact Statements will be prepared and made available for public and agency review prior to public hearings.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: December 4, 2002.
Joseph P. Duran,
Operations Engineer, Colorado Division FHWA, 555 Zang Street Suite 250, Lakewood, CO 80228.

[FR Doc. 02-32301 Filed 12-23-02; 8:45 am]

BILLING CODE 4910-22-M